DEPARTMENT OF HOUSING AND URBAN DEVELOPMENT

[Docket No. FR-5909-N-61]

30-Day Notice of Proposed Information Collection: Budget-Neutral Demonstration Program for Energy and Water Conservation Improvements at Multifamily Housing Residential Units

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: September 29, 2016.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QMAC, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A. The Federal Register notice that solicited public comment on the information collection for a period of 60 days was published on June 7, 2016 at 81 FR 36580.

A. Overview of Information Collection

Title of Information Collection: Budget-Neutral Demonstration Program for Energy and Water Conservation Improvements at Multifamily Housing Residential Units.

OMB Approval Number: 2502-New.

Type of Request: New collection.

Form Number: None.

Description of the need for the information and proposed use: The Pay for Success (PFS) Pilot authorizes HUD to establish a competitive process for selecting one or more qualified intermediaries who will, per agreements with HUD, be responsible for initiating and managing an energy and water conservation retrofit program at select assisted multifamily housing properties. Participation in the program is voluntary. Participating applicants are required to submit application information for the purpose of putting together a proposal for evaluation. Through this application information, HUD evaluates whether applicants have met all of the requirements necessary to apply and be selected to participate in the PFS Pilot.

Respondents (i.e. affected public): Businesses or other for-profits, nonprofit organizations, and State, Local, or Tribal Government entities.

Estimated Number of Respondents: 15.

Estimated Number of Responses: 15.

Frequency of Response: Once.

Average Hours per Response: 20.

Total Estimated Burden: 300 hours.

Authority: Section 3507 of the Paperwork Reduction Act of 1995, 44 U.S.C. Chapter 35.

Dated: August 23, 2016.
Colette Pollard,
Department Reports Management Officer, Office of the Chief Information Officer.

[FR Doc. 2016-20801 Filed 8-29-16; 8:45 am]

BILLING CODE 4210-67-P